DEPARTMENT OF COMMERCE

International Trade Administration

[A-570-121]

Difluorormethane (R-32) From the People's Republic of China: Postponement of Preliminary Determination in the Less-Than-Fair-Value Investigation

AGENCY: Enforcement and Compliance, International Trade Administration, Department of Commerce.

DATES: Applicable June 8, 2020.

FOR FURTHER INFORMATION CONTACT: Joshua Tucker or William Miller, AD/CVD Operations, Office II, Enforcement and Compliance, International Trade Administration, U.S. Department of Commerce, 1401 Constitution Avenue NW, Washington, DC 20230; telephone: (202) 482-2044 or (202) 482-3906, respectively.

SUPPLEMENTARY INFORMATION:

Background

On February 12, 2020, the Department of Commerce (Commerce) initiated a less-than-fair-value (LTFV) investigation of imports of difluoromethane (R-32) from the People's Republic of China.¹ Currently, the preliminary determination is due no later than July 1, 2020.

¹ See Difluoromethane (R-32) from the People's Republic of China: Initiation of Less-Than-Fair-Value Investigation, 85 FR 10406 (February 24, 2020).

Postponement of Preliminary Determination

Section 733(b)(1)(A) of the Tariff Act of 1930, as amended (the Act), requires Commerce to issue the preliminary determination in a LTFV investigation within 140 days after the date on which Commerce initiated the investigation. However, section 733(c)(1)(A)(b)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On May 22, 2020, the petitioner ² submitted a timely request that Commerce postpone the preliminary determination in this LTFV investigation.³ The petitioner stated that it requests postponement of the preliminary determination to allow Commerce to analyze supplemental questionnaire responses and request further clarification to thoroughly investigate the issues presented in this case.⁴

² The petitioner is Arkema, Inc.

³ See Petitioner's Letter, “Difluoromethane (R-32) from the People's Republic of China: Petitioner's Request to Postpone Preliminary Determination,” dated May 22, 2020.

⁴ Id. at 2.

In accordance with 19 CFR 351.205(e), the petitioner has stated the reasons for requesting a postponement of the preliminary determination, and Commerce finds no compelling reasons to deny the request. Therefore, in accordance with section 733(c)(1)(A) of the Act, Commerce is postponing the deadline for the preliminary determination to August 20, 2020, 190 days after the date on which this investigation was initiated. In accordance with section 735(a)(1) of the Act and 19 CFR 351.210(b)(1), the deadline for the final determination of this investigation will continue to be 75 days after the date of the preliminary determination.

This notice is issued and published pursuant to section 733(c)(2) of the Act and 19 CFR 351.205(f)(1).

Dated: June 1, 2020.
Jeffrey I. Kessler,
Assistant Secretary for Enforcement and Compliance.

[FR Doc. 2020-12324 Filed 6-5-20; 8:45 am]

BILLING CODE 3510-DS-P